DEPARTMENT OF COMMERCE

National Oceanic and Atmospheric Administration

[I.D. 081705B]

Fisheries of the Exclusive Economic Zone Off Alaska; Notice of Crab Rationalization Program Public Workshop

AGENCY: National Marine Fisheries Service (NMFS), National Oceanic and Atmospheric Administration (NOAA), Commerce.

ACTION: Notice of public workshop.

SUMMARY: NMFS will present a public workshop on the new Crab Rationalization Program (Program) for participants in the Bering Sea and Aleutian Islands (BSAI) king and Tanner crab fisheries. At this workshop, NMFS will review the Program, discuss the key Program elements, provide information on the application process, and answer questions. This workshop is specifically intended to address issues related to the Arbitration System portion of the Program. NMFS is conducting this public workshop to assist participants in complying with the requirements of this new Program.

DATES: The workshop will be held on Thursday, September 1, 2005, from 10 a.m. to 4 p.m. Pacific Standard Time (PST).

ADDRESSES: The workshop will be held at the Leif Erickson Hall, 2245 Northwest 57th Street, Seattle, WA.

FOR FURTHER INFORMATION CONTACT: Glenn Merrill, telephone: 907-586-7228; e-mail: glenn.merrill@noaa.gov.

SUPPLEMENTARY INFORMATION: On March 2, 2005, NMFS published a final rule implementing the Program as Amendments 18 and 19 to the Fishery Management Plan for Bering Sea/Aleutian Islands King and Tanner Crabs (70 FR 10174).

NMFS conducted four public workshops in March and April of 2005 in Alaska, Oregon, and Washington to assist fishery participants in complying with the requirements of the Program. At these workshops, NMFS reviewed the Program, discussed the key Program elements, and provided information on the application process. NMFS conducted an additional workshop on the Arbitration System in Seattle, WA, on May 9, 2005.

As with the May workshop, the September 1, 2005 workshop is intended to specifically focus on the Arbitration System. Elements related to economic data collection, monitoring and enforcement, electronic reporting, quota share and individual fishing quota application and transfer provisions, the appeals process, fee collection, and the loan program may be addressed secondarily. Additionally, NMFS will answer questions from workshop participants. For further information on the Crab Rationalization Program, please visit the NMFS Alaska Region Internet site at www.fakr.noaa.gov.

Special Accommodations

This workshop is physically accessible to people with disabilities. Requests for special accommodations should be directed to Glenn Merrill (see FOR FURTHER INFORMATION CONTACT) at least 5 working days before the workshop date.

Dated: August 18, 2005.
Alan D. Risenhoover,
Acting Director, Office of Sustainable Fisheries, National Marine Fisheries Service.

[FR Doc. E5-4608 Filed 8-22-05; 8:45 am]

BILLING CODE 3510-22-S